OFFICE OF THE UNITED STATES TRADE REPRESENTATIVE

Determination Regarding Waiver of Discriminatory Purchasing Requirements With Respect to Goods and Services Covered by Chapter 15 of the U.S.-Australia Free Trade Agreement

AGENCY: Office of the United States Trade Representative.

ACTION: Determination under Trade Agreements Act of 1979.

EFFECTIVE DATE: January 24, 2005.

FOR FURTHER INFORMATION CONTACT: Jean Heilman Grier, Senior Procurement Negotiator, Office of the United States Trade Representative, (202) 395-5097, or Melida Hodgson, Assistant General Counsel, Office of the United States Trade Representative, (202) 395-9512.

On May 18, 2004, the United States and Australia entered into the United States-Australia Free Trade Agreement (“the USAFTA”). Chapter 15 of the USAFTA sets forth certain obligations with respect to government procurement of goods and services, as specified in Annex 15-A of the USAFTA. On August 3, 2004, the President signed into law the United States-Australia Free Trade Agreement Implementation Act (“the USAFTA Act”) (Pub. L. 108-286, 19 U.S.C. 3805 note). In section 101 of the USAFTA Act, the Congress approved the USAFTA and the statement of administrative action proposed to implement the USAFTA that the President submitted to Congress. The USAFTA entered into force on January 1, 2005.

Section 1-201 of Executive Order 12260 of December 31, 1980 (46 FR 1653) delegates the functions of the President under Sections 301 and 302 of the Trade Agreements Act of 1979 (“the Trade Agreements Act”) (19 U.S.C. 2511, 2512) to the United States Trade Representative.

Now, therefore, I, Robert B. Zoellick, United States Trade Representative, in conformity with the provisions of Sections 301 and 302 of the Trade Agreements Act, and Executive Order 12260, and in order to carry out U.S. obligations under Chapter 15 of the USAFTA, do hereby determine that:

1. Australia is a country, which, pursuant to the USAFTA, will provide appropriate reciprocal competitive government procurement opportunities to United States products and suppliers of such products. In accordance with section 301(b)(3) of the Trade Agreements Act, Australia is designated for purposes of section 301(a) of the Trade Agreements Act.

2. With respect to eligible products of Australia (i.e., goods and services covered by the Schedules of the United States in Annex 15-A of the USAFTA) and suppliers of such products, the application of any law, procedure, or practice regarding government procurement that would, if applied to such products and suppliers, result in treatment less favorable than accorded—

(A) To United States products and suppliers of such products; or

(B) To eligible products of another foreign country or instrumentality which is a party to the Agreement on Government Procurement referred to in section 101(d)(17) of the Uruguay Round Agreements Act (19 U.S.C. 3511(d)(17)) and suppliers of such products, shall be waived.

This waiver shall be applied by all entities listed in the Schedule of the United States to Section 1 of Annex 15-A of the USAFTA, and in list A of the Schedule of the United States to Section 3 of Annex 15-A of the USAFTA.

3. The designation in paragraph 1 and the waiver in paragraph 2 are subject to modification or withdrawal by the United States Trade Representative.

Dated: January 24, 2005.
Robert B. Zoellick,
United States Trade Representative.

[FR Doc. 05-1663 Filed 1-28-05; 8:45 am]

BILLING CODE 3190-W5-P